SECURITIES AND EXCHANGE COMMISSION

[Investment Company Act Release No. 33063]

Notice of Applications for Deregistration Under Section 8(f) of the Investment Company Act of 1940

March 30, 2018.

The following is a notice of applications for deregistration under section 8(f) of the Investment Company Act of 1940 for the month of March 2018. A copy of each application may be obtained via the Commission's website by searching for the file number, or for an applicant using the Company name box, at http://www.sec.gov/search/search.htm or by calling (202) 551-8090. An order granting each application will be issued unless the SEC orders a hearing. Interested persons may request a hearing on any application by writing to the SEC's Secretary at the address below and serving the relevant applicant with a copy of the request, personally or by mail. Hearing requests should be received by the SEC by 5:30 p.m. on April 24, 2018, and should be accompanied by proof of service on applicants, in the form of an affidavit or, for lawyers, a certificate of service. Pursuant to Rule 0-5 under the Act, hearing requests should state the nature of the writer's interest, any facts bearing upon the desirability of a hearing on the matter, the reason for the request, and the issues contested. Persons who wish to be notified of a hearing may request notification by writing to the Commission's Secretary.

ADDRESSES: The Commission: Secretary, U.S. Securities and Exchange Commission, 100 F Street NE, Washington, DC 20549-1090.

FOR FURTHER INFORMATION CONTACT: Shawn Davis, Branch Chief, at (202) 551-6413 or Chief Counsel's Office at (202) 551-6821; SEC, Division of Investment Management, Chief Counsel's Office, 100 F Street NE, Washington, DC 20549-8010.

Croft Funds Corporation [File No. 811-08652]

Summary: Applicant seeks an order declaring that it has ceased to be an investment company. On December 1, 2017, applicant made a liquidating distribution to its shareholders, based on net asset value. Expenses of $3,764 incurred in connection with the liquidation were paid by the applicant's investment adviser.

Filing Dates: The application was filed on January 24, 2018, and amended on February 22, 2018.

Applicant's Address: Canton House, 300 Water Street, Baltimore, Maryland 21202.

Meehan Mutual Funds, Inc. [File No. 811-09575]

Summary: Applicant seeks an order declaring that it has ceased to be an investment company. The applicant has transferred its assets to Meehan Focus Fund, a series of Ultimus Managers Trust, and, on October 20, 2017, made a final distribution to its shareholders based on net asset value. Expenses of $133,418 incurred in connection with the reorganization were paid by the applicant's investment adviser.

Filing Date: The application was filed on February 22, 2018.

Applicant's Address: c/o Edgemoor Investment Advisors Inc., 7250 Woodmont Avenue, Suite 315, Bethesda, Maryland 20814.

LocalShares Investment Trust [File No. 811-22755]

Summary: Applicant seeks an order declaring that it has ceased to be an investment company. On February 16, 2018, applicant made a liquidating distribution to its shareholders, based on net asset value. Expenses of $46,500 incurred in connection with the liquidation were paid by the applicant's investment adviser.

Filing Date: The application was filed on March 5, 2018.

Applicant's Address: 4535 Harding Pike, Suite 201, Nashville, Tennessee 37205.

Transamerica AUIM Opportunistic Bond [File No. 811-22765]

Summary: Applicant, a closed-end investment company, seeks an order declaring that it has ceased to be an investment company. Applicant has never made a public offering of its securities and does not propose to make a public offering or engage in business of any kind.

Filing Dates: The application was filed on January 24, 2018, and amended on March 7, 2018.

Applicant's Address: 1801 California Street, Suite 5200, Denver, Colorado 80202.

Waddell & Reed Advisors Funds [811-09435]

Summary: Applicant seeks an order declaring that it has ceased to be an investment company. Each series of applicant has transferred its assets to a corresponding series of Ivy Funds and, on October 10, 2017 and February 20, 2018, made final distributions to its shareholders based on net asset value. Expenses of $3,515,501.43 incurred in connection with the reorganization were paid by the applicant, the applicant's investment adviser, the acquiring fund, and the acquiring fund's investment adviser.

Filing Date: The application was filed on March 19, 2018.

Applicant's Address: 6300 Lamar Avenue, Overland Park, Kansas 66202

For the Commission, by the Division of Investment Management, pursuant to delegated authority.
Eduardo Aleman,
Assistant Secretary.

[FR Doc. 2018-06910 Filed 4-4-18; 8:45 am]

BILLING CODE 8011-01-P